FEDERAL HOUSING FINANCE BOARD

Sunshine Act Meeting Notice; Announcing a Closed Meeting of the Board of Directors

TIME AND DATE: The meeting of the Board of Directors is scheduled to begin at 10 a.m. on Wednesday, November 17, 2004.

PLACE: Board Room, Second Floor, Federal Housing Finance Board, 1777 F Street, NW., Washington, DC 20006.

STATUS: The entire meeting will be closed to the public.

MATTER TO BE CONSIDERED AT THE MEETING:

Periodic Update of Examination Program Development and Supervisory Findings.

FOR FURTHER INFORMATION CONTACT: Shelia S. Willis, Paralegal Specialist, Office of General Counsel, by telephone at (202) 408-2876 or by electronic mail at williss@fhfb.gov.

Dated: November 10, 2004.
By the Federal Housing Finance Board.
Mark J. Tenhundfeld,
General Counsel.

[FR Doc. 04-25404 Filed 11-10-04; 12:41 pm]

BILLING CODE 6725-01-P